AGENCY FOR INTERNATIONAL DEVELOPMENT

Center for Faith-Based and Neighborhood Partnerships (FBNP) Partner Meeting Survey

AGENCY: United States Agency for International Development.

ACTION: Notice of information collection; request for comment.

SUMMARY: The U.S. Agency for International Development/Center for Faith-Based and Neighborhood Partnerships (USAID/IPI/LFT/FBNP), as part of the Agency's continuing effort to reduce paperwork and respondent burden, invites the general public and other Federal agencies to take this opportunity to comment on the following new information collection, as required by the Paperwork Reduction Act of 1995. Comments are requested concerning: Whether the proposed or continuing collections of information are necessary for the proper performance of the functions of the agency, including whether the information shall have practical utility; the accuracy of the burden estimates; ways to enhance the quality, utility, and clarity of the information collected; and ways to minimize the burden of the collection of the information on the respondents.

DATES: All comments should be submitted within 60 calendar days from the date of this publication.

ADDRESSES: To access and review the electronic Google forms survey tool, please use: https://forms.gle/4JR8nLLzZmmsPNkv8.

Interested persons are invited to submit comments regarding the proposed information collection to Amanda Vigneaud, Initiative Lead, USAID/IPI/LFT/FBNP at cfbnp@usaid.gov.

FOR FURTHER INFORMATION CONTACT: For specific questions related to collection activities, please contact Amanda Vigneaud, Initiative Lead, USAID/IPI/LFT/FBNP at cfbnp@usaid.gov or 202-712-1815.

SUPPLEMENTARY INFORMATION:

Title of Collection: Center for Faith-Based and Neighborhood Partnerships (FBNP) Partner Meeting Survey 2024.

OMB Number: Not yet known.

Expiration Date: Not yet known.

Type of Request: New collection.

Form Number: Not yet known.

Affected Public: Point of contact from faith-based organizations that have met with USAID/IPI/LFT/FBNP in 2024.

Estimated Number of Respondents: 70.

Estimated Total Annual Burden Hours: 20-25.

Abstract: The Center for Faith-Based and Neighborhood Partnerships (USAID/IPI/LFT/FBNP) met with approximately 70 organizations in 2024. This survey will be sent to the points of contact from the partner meetings to collect information on outcomes following the partner's meeting with the team. If the collection is not conducted, it will affect the ability of USAID/IPI/LFT/FBNP to improve their partner engagement process. Method of collection will be electronic using Google forms survey. The data will be collected and maintained by USAID/IPI/LFT/FBNP on their Google platform.

Amanda Vigneaud,
Initiative Lead, USAID/IPI/LFT/FBNP.

[FR Doc. 2024-31189 Filed 12-27-24; 8:45 am]

BILLING CODE 6116-01-P